DEPARTMENT OF TRANSPORTATION

Federal Aviation Administration

14 CFR Part 39

[Docket No. 2002-NM-50-AD]

RIN 2120-AA64

Airworthiness Directives; Airbus Model A300 B2 and B4; A300 B4-600, A300 B4-600R, and A300 F4-600R (Collectively Called A300-600); A310; A319; A320; A321; A330; and A340 Series Airplanes; Equipped With PPG Aerospace Windshields

AGENCY: Federal Aviation Administration, DOT.

ACTION: Notice of proposed rulemaking (NPRM).

SUMMARY: This document proposes the adoption of a new airworthiness directive (AD) that is applicable to certain Airbus Model A300 B2 and B4; A300 B4-600, A300 B4-600R, and A300 F4-600R (collectively called A300-600); A310; A319; A320; A321; A330; and A340 series airplanes; equipped with certain PPG Aerospace windshields. This proposal would require replacement of certain windshields manufactured by PPG Aerospace with new windshields. This action is necessary to prevent failure of both structural plies of the windshield caused by overheating of the power lead wire, which could cause reduced structural integrity of the windshield assembly, and consequent loss of the windshield during flight. This action is intended to address the identified unsafe condition.

DATES: Comments must be received by July 7, 2003.

ADDRESSES: Submit comments in triplicate to the Federal Aviation Administration (FAA), Transport Airplane Directorate, ANM-114, Attention: Rules Docket No. 2002-NM-50-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-50-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-50-AD.” The postcard will be date stamped and returned to the commenter.

Availability of NPRMs

Any person may obtain a copy of this NPRM by submitting a request to the FAA, Transport Airplane Directorate, ANM-114, Attention: Rules Docket No. 2002-NM-50-AD, 1601 Lind Avenue, SW., Renton, Washington 98055-4056.

Discussion

The Direction Générale de l'Aviation Civile (DGAC), which is the airworthiness authority for France, notified the FAA that an unsafe condition may exist on certain Airbus Model A300 B2 and B4; A300 B4-600, A300 B4-600R, and A300 F4-600R (collectively called A300-600); A310; A319; A320; A321; A330; and A340 series airplanes; equipped with certain windshields manufactured by PPG Aerospace. The DGAC advises that, after landing, an operator reported breakage (failure of both structural plies) of a windshield. Investigations performed by the manufacturer identified the cause of the failure of both structural plies as abnormal localized overheating of the power lead wire located between the structural plies of the windshield. The localized overheating was caused by electrical arcing between the power lead wires that supply power to the upper bus bar from the terminal block due to damage to the wire during manufacturing rework in production. During rework, the wire migrated away from the windshield interlayer and was accidentally damaged by a sharp tool during removal of the windshield pressure seal. Failure of both structural plies of the windshield caused by overheating of the power lead wire, if not corrected, could result in reduced structural integrity of the windshield assembly, and consequent loss of the windshield during flight.

Explanation of Relevant Service Information

Airbus has issued the All Operators Telexes (AOT) specified in Table 1 of this AD, which describe procedures for replacement of certain windshields manufactured by PPG Aerospace with new windshields. Accomplishment of the actions specified in the AOTs is intended to adequately address the identified unsafe condition. The DGAC classified these AOTs as mandatory and issued French airworthiness directive 2001-606(B), dated December 12, 2001, in order to assure the continued airworthiness of these airplanes in France.

The Airbus AOTs reference PPG Aerospace Service Bulletin NP-175201-56-001, dated September 26, 2001, as an additional source of service information for accomplishing the replacement proposed in this AD.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the findings of the DGAC, reviewed all available information, and determined that AD action is necessary for products of these type designs that are certificated for operation in the United States.

Explanation of Requirements of Proposed Rule

Since an unsafe condition has been identified that is likely to exist or develop on other airplanes of the same type designs registered in the United States, the proposed AD would require accomplishment of the actions specified in the AOTs described previously.

Clarification of AOT Document Number

Operators should note that the French airworthiness directive incorrectly references the document number for the AOT applicable to Model A300-600 series airplanes as Airbus AOT A300-56A6004. The correct document number is A300-600-56A6004.

Cost Impact

We estimate that 622 airplanes of U.S. registry would be affected by this proposed AD. Currently, there are no Model A340 series airplanes on the U.S. registry.

The following table shows the estimated cost impact to do the proposed actions for airplanes affected by this proposed AD. The following table also shows the estimated cost impact for Model A340 series airplanes affected by this proposed AD, should an affected airplane be imported and placed on the U.S. Register in the future. The average labor rate is $60 per work hour, and there are 2 windshields per airplane. The estimated maximum cost for all airplanes affected by this proposed AD is $11,979,720 (assuming both windshields must be replaced on all affected airplanes); however, some warranty relief may be available.

Model | Number of U.S.-registered airplanes | Work hours per windshield (estimated) | Parts cost per windshield (estimated) | Maximum cost per airplane (estimated)
A300 B2 and B4, A300-600, A310, A319, A320, A321, A330 | 622 | 8 | $9,150 | $19,260
A340 | 0 | 8 | 9,150 | 19,260

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-50-AD.

Applicability: Airplanes listed in Table 1 of this AD, certified in any category, as follows:

Table 1.—Applicability
Model— | Equipped with PPG Aerospace windshields having—: Part Nos. (P/N)— | Equipped with PPG Aerospace windshields having—: And Serial Nos. (S/N) as listed in—
A300 B2 and B4 series airplanes | NP-175201-1, NP-175201-2, or NP-175201-4 | Airbus All Operators Telex A300-56A0011, dated October 2, 2001.
A300 B4-600, A300 B4-600R, and A300 F4-600R (collectively called A300-600 airplanes | NP-175201-1, NP-175201-2, or NP-175201-4 | Airbus All Operators Telex A300-600-56A6004, dated October 2, 2001.
A310 series airplanes | NP-175201-1, NP-175201-2, or NP-175201-4 | Airbus All Operators Telex A310-56A2005, dated October 2, 2001.
A319, A320, and A321 series airplanes | NP-165311-2, NP-165311-3, NP-165311-4, NP-165311-5, or NP-165311-6 | Airbus All Operators Telex A320-56A1010, Revision 01, dated October 1, 2001.
A330 series airplanes | NP-175201-1, NP-175201-2, or NP-175201-4 | Airbus All Operators Telex A330-56A3005, dated October 2, 2001.
A340 series airplanes | NP-175201-1, NP-175201-2, or NP-175201-4 | Airbus All Operators Telex A340-56A4005, dated October 2, 2001.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of both structural plies of the windshield caused by overheating of the power lead wire, which could cause reduced structural integrity of the windshield assembly, and consequent loss of the windshield during flight, accomplish the following:

Windshield Replacement

(a) Within 6 months after the effective date of this AD, replace windshields manufactured by PPG Aerospace having certain P/Ns and S/Ns listed in the applicable Airbus all operators telex (AOT) listed in Table 1 of this AD with new windshields, per the applicable Airbus AOT listed in Table 1 of this AD.

Note 2: The Airbus AOTs reference PPG Aerospace Service Bulletin NP-175201-56-001, dated September 26, 2001, as an additional source of service information for accomplishing the replacement required by this AD.

Part Installation

(b) As of the effective date of this AD, no person shall install on any airplane a windshield manufactured by PPG Aerospace having a certain P/N and S/N listed in the applicable AOT listed in Table 1 of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 4: The subject of this AD is addressed in French airworthiness directive 2001-606(B), dated December 12, 2001.

Issued in Renton, Washington, on May 28, 2003.
Vi L. Lipski,
Manager, Transport Airplane Directorate, Aircraft Certification Service.

[FR Doc. 03-13977 Filed 6-3-03; 8:45 am]

BILLING CODE 4910-13-P